DEPARTMENT OF COMMERCE

International Trade Administration

[A-570-836]

Glycine from the People's Republic of China: Notice of Extension of Time Limit for Preliminary Results of Antidumping Duty New Shipper Review

AGENCY: Import Administration, International Trade Administration, Department of Commerce.

EFFECTIVE DATE: November 4, 2003.

FOR FURTHER INFORMATION CONTACT: Matthew Renkey or Scot Fullerton, Office of AD/CVD Enforcement VII, Import Administration, International Trade Administration, U.S. Department of Commerce, 14th Street and Constitution Avenue NW., Washington DC 20230; telephone: (202) 482-2312 or (202) 482-1386, respectively.

SUPPLEMENTARY INFORMATION:

Background

In accordance with section 351.214(b)(2) of the Department's regulations, on March 26, 2003, the Department received a timely and properly filed request from Hebei New Donghua Amino Acid Co., Ltd. (New Donghua), for a new shipper review of its exports of glycine to the United States. On April 30, 2003, the Department initiated a new shipper review of the antidumping duty order on glycine from the People's Republic of China for the period of review of March 1, 2002 through February 28, 2003 (68 FR 23962, May 6, 2003).

Extension of Time Limit for Preliminary Results

Section 351.214(i)(1) of the Department's regulations requires the Department to issue preliminary results of a new shipper review within 180 days of the date of initiation. However, if the Secretary concludes that a new shipper review is extraordinarily complicated, the Secretary may extend the 180-day period to 300 days under section 351.214(i)(2) of the Department's regulations. Because of the complex nature of New Donghua's ownership structure and the resultant need to gather additional information and conduct further analysis into this area, we find this review to be extraordinarily complicated.

Accordingly, the Department is extending the time limit for the completion of the preliminary results to 300 days after the date of initiation, in accordance with section 751(a)(2)(B)(iv) of the Tariff Act of 1930, as amended (the Act), and section 351.214(I)(2) of the Department's regulations. Therefore, the due date for the preliminary results is now no later than February 24, 2004. The final results will in turn be due 90 days after the date of issuance of the preliminary results, unless extended.

This notice is issued and published pursuant to sections 751(a)(1) and 777 (I) (1) of the Act.

Dated: October 17, 2003.
Joseph A. Spetrini,
Deputy Assistant Secretary for Import Administration, Group III.

[FR Doc. 03-27696 Filed 11-3-03; 8:45 am]

BILLING CODE 3510-DS-S